DEPARTMENT OF THE INTERIOR

Bureau of Land Management

[CA-180-1430-EU; CACA-42586]

Notice of Realty Action: Direct Sale of Public Sale, Mariposa County, CA

SUMMARY: The Bureau of Land Management (BLM) examined the following described federal lands and through the NEPA process determined them suitable for disposal by direct sale, including the mineral estate with no known value, pursuant to sections 203 and 209 of the Federal Land Policy and Management Act of October 21, 1976 (43 U.S.C. 1713 and 1719), at no less than fair market value.

Federal lands determined suitable for direct sale are described as:

Mount Diablo Meridian, California

T. 3 S., R. 16 E.,

Sec. 11: portion of the SESW.

Containing approximately 3.31 acres.

The lands are not required for federal purposes, and it has been determined that disposal of these parcels would be in the public's interest. The land is being offered by direct sale to Dr. Raymond Bessemer. It has been determined that the subject parcels contain no known mineral values. Acceptance of a direct sale offer will constitute an application for conveyance of those mineral interests having no known value. The applicant will be required to pay a $50.00 non-refundable filing fee for conveyance of the said mineral interests. The land will not be offered for sale until at least 60 days after publication of this notice in the Federal Register.

FOR FURTHER INFORMATION CONTACT: Karen Montgomery, Realty Specialist, Bureau of Land Management, Folsom Field Office, 63 Natoma Street, Folsom, California 95630; (916) 985-4474.

SUPPLEMENTARY INFORMATION: The public lands being offered to Dr. Raymond Bessemer are currently encumbered by Dr. Bessemer's improvements. The above described land is hereby segregated from appropriation under the public land laws, including the mining laws, but not from sale under the above cited statutes, for 270 days from the date of publication of this notice, or until title transfer is completed or the segregation is terminated by publication in the Federal Register, whichever occurs first.

A patent, when issued, will contain the following reservations to the United States: 1. A right-of-way thereon for ditches or canals constructed by the authority of the United States pursuant to the Act of August 30, 1890 (26 Stat. 391; 43 U.S.C. 945).

Application Comments: For a period of 45 days from the date of publication of this notice in the Federal Register, interested persons may submit comments regarding the proposed conveyance of the land to the Field Manager, Bureau of Land Management, Folsom Field Office, 63 Natoma Street, Folsom, California 95630. Objections will be reviewed by the Field Manager who may sustain, vacate, or modify this realty action.

Dated: November 6, 2000.
D.K. Swickard,
Field Manager, Folsom Field Office.

[FR Doc. 00-29394 Filed 11-15-00; 8:45 am]

BILLING CODE 4310-40-P